DEPARTMENT OF TRANSPORTATION

Federal Aviation Administration

14 CFR Part 39

[Docket No. 2001-NM-164-AD]

RIN 2120-AA64

Airworthiness Directives; McDonnell Douglas Model MD-11 and -11F Airplanes

AGENCY: Federal Aviation Administration, DOT.

ACTION: Notice of proposed rulemaking (NPRM).

SUMMARY: This document proposes the adoption of a new airworthiness directive (AD) that is applicable to certain McDonnell Douglas Model MD-11 and -11F airplanes. This proposal would require an initial general visual inspection of the power feeder cables of the integrated drive generator (IDG) and the fuel feed lines of engine plyons No. 1 and No. 3 on the wings for proper clearance and damage; corrective actions if necessary; and repetitive general visual inspections and a terminating action for the repetitive inspections. This action is necessary to prevent potential chafing of the power feeder cables of the IDG in engine pylons No. 1 and No. 3 on the wings, and consequent arcing on the fuel lines in the engine pylons and possible fuel fire. This action is intended to address the identified unsafe condition.

DATES: Comments must be received by August 4, 2003.

ADDRESSES: Submit comments in triplicate to the Federal Aviation Administration (FAA), Transport Airplane Directorate, ANM-114, Attention: Rules Docket No. 2001-NM-164-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-16-4AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California 90712.

FOR FURTHER INFORMATION CONTACT: Brett Portwood, Aerospace Engineer, Systems and Equipment Branch, ANM-130L, FAA, Los Angeles Aircraft Certification Office, 3960 Paramount Boulevard, Lakewood, California 90712; telephone (562) 627-5350; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-164-AD.” The postcard will be date stamped and returned to the commenter.

Availability of NPRMs

Any person may obtain a copy of this NPRM by submitting a request to the FAA, Transport Airplane Directorate, ANM-114, Attention: Rules Docket No. 2001-NM-164-AD, 1601 Lind Avenue, SW., Renton, Washington 98055-4056.

Discussion

As part of its practice of re-examining all aspects of the service experience of a particular aircraft whenever an accident occurs, the FAA has become aware of reports indicating that the power feeder cables of the integrated drive generator (IDG) are riding against structure and fuel lines in engine pylons No. 1 and No. 3 on the wings of certain McDonnell Douglas Model MD-11 and -11F airplanes. The cables are routed too closely to the components. This condition, if not corrected, could result in potential chafing of the power feeder cables of the IDG in engine pylons No. 1 and No. 3 on the wings, and consequent arcing on the fuel lines in the engine pylons and possible fuel fire.

Other Related Rulemaking

The FAA, in conjunction with Boeing and operators of Model MD-11 and -11F airplanes, has reviewed all aspects of the service history of those airplanes to identify potential unsafe conditions and to take appropriate corrective actions. This proposed airworthiness directive (AD) is one of a series of corrective actions identified during that process. We have previously issued several other ADs and may consider further rulemaking actions to address the remaining identified unsafe conditions.

Explanation of Relevant Service Information

We have reviewed and approved Boeing Alert Service Bulletin MD11-54A011, Revision 02, dated May 31, 2002. The service bulletin describes procedures for an initial general visual inspection of the power feeder cables of the IDG and the fuel feed lines of engine plyons No. 1 and 3 on the wings for proper clearance and damage; corrective action if necessary; and repetitive general visual inspections and a terminating action for the repetitive inspections. The corrective actions include:

• Repositioning cables with improper clearance; and

• Repairing damage or replacing damaged cables or fuel feed lines with new or serviceable cables or fuel feed lines.

The terminating action involves:

• Installing brackets to support the IDG harness;

• Installing new clamps on the power feeder cables of the IDG of engine pylons No. 1 and No. 3; and

• Replacing the existing fairlead with a new clamp, and installing new tape; as applicable.

Accomplishment of the actions specified in the service bulletin is intended to adequately address the identified unsafe condition.

Boeing also has issued Information Notice MD11-54A011 R02 IN 02, dated July 11, 2002. The information notice informs operators of a typographical error for the string tie part number (P/N) specified in the Boeing Alert Service Bulletin MD11-54A011, Revision 02. The service bulletin specifies string tie P/N 190L0F21G/A; the correct P/N is 109 LOF 21G/A.

Explanation of Requirements of Proposed Rule

Since an unsafe condition has been identified that is likely to exist or develop on other products of this same type design, the proposed AD would require accomplishment of the actions specified in the service bulletin described previously.

Clarification of Procedures in Service Bulletin

Boeing has informed us that, although the service bulletin specifies two options (i.e., “Option 1” and “Option 2”) for Conditions 1 through 3 findings, these actions are not optional. The intent is that the actions specified in Option 1 be accomplished until the actions specified in Option 2 are accomplished at a later time. If an operator elects to accomplish the actions specified in Option 2 before the actions specified in Option 1, the actions specified in Option 1 do not need to be accomplished.

Changes to 14 CFR part 39/Effect on the Proposed AD

On July 10, 2002, we issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD.

Cost Impact

There are approximately 195 Model MD-11 and -11F airplanes of the affected design in the worldwide fleet. The FAA estimates that 74 airplanes of U.S. registry would be affected by this proposed AD, that it would take approximately 1 work hour per airplane to accomplish the proposed inspection, and that the average labor rate is $60 per work hour. Based on these figures, the cost impact of the proposed AD on U.S. operators is estimated to be $4,440, or $60 per airplane, per inspection cycle.

It would take approximately 4 work hours per airplane to accomplish the terminating action, at an average labor rate of $60 per work hour. Required parts would cost approximately $91 per airplane. Based on these figures, the cost impact of this terminating action is estimated to be $24,494, or $331 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2001-NM-164-AD.

Applicability: Model MD-11 and -11F airplanes, as listed in Boeing Alert Service Bulletin MD11-54A011, Revision 02, dated May 31, 2002; certificated in any category.

Compliance: Required as indicated, unless accomplished previously.

To prevent potential chafing of the power feeder cables of the integrated drive generator (IDG) in engine pylons No. 1 and No. 3 on the wings, and consequent arcing on the fuel lines in the engine pylons and possible fuel fire, accomplish the following:

Note 1: Boeing has issued Information Notice MD11-54A011 R02 IN 02, dated July 11, 2002. The information notice informs operators of a typographical error for the string tie part number (P/N) specified in the Boeing Alert Service Bulletin MD11-54A011, Revision 02. The service bulletin specifies string tie P/N 190L0F21G/A; the correct P/N is 109 LOF 21G/A.

Initial Inspection

(a) Within 30 days after the effective date of this AD, do a general visual inspection of the power feeder cables of the IDG and the fuel feed lines of engine pylons No. 1 and 3 on the wings for proper clearance and damage, per Boeing Alert Service Bulletin MD11-54A011, Revision 02, dated May 31, 2002.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Condition 1: Proper Clearance and No Damage

(b) If proper clearance exists and no damage is detected during any inspection required by paragraph (a) of this AD, do the action(s) specified in paragraphs (b)(1), (b)(2), and (b)(3) of this AD, as applicable, per Boeing Alert Service Bulletin MD11-54A011, Revision 02, dated May 31, 2002.

(1) For Group 1 and Group 2 airplanes identified in the service bulletin: Repeat the inspection required by paragraph (a) of this AD every 6 months until the modification required by paragraph (b)(2) or (b)(3) of this AD, as applicable, has been done.

(2) For Group 1 airplanes identified in the service bulletin: Within 18 months after the effective date of this AD, install the brackets to support the IDG harness, and install new clamps on the power feeder cables of the IDG of the No. 1 and No. 3 pylons.

(3) For Group 2 airplanes identified in the service bulletin: Within 18 months after the effective date of this AD, replace the existing fairlead with a new clamp, and install new tape.

Condition 2: Improper Clearance and No Damage

(c) If improper clearance exists and no damage is detected during any inspection required by paragraph (a) of this AD, do the action(s) specified in paragraphs (c)(1), (c)(2), and (c)(3) of this AD, as applicable, per Boeing Alert Service Bulletin MD11-54A011, Revision 02, dated May 31, 2002.

(1) For Group 1 and Group 2 airplanes identified in the service bulletin: Before further flight, reposition cables, and repeat the inspection required by paragraph (a) of this AD every 6 months until the modification required by paragraph (c)(2) or (c)(3) of this AD, as applicable, has been done.

(2) For Group 1 airplanes identified in the service bulletin: Within 18 months after the effective date of this AD, install the brackets to support the IDG harness, and install new clamps on the power feeder cables of the IDG of engine pylons No. 1 and No. 3.

(3) For Group 2 airplanes identified in the service bulletin: Within 18 months after the effective date of this AD, replace the existing fairlead with a new clamp, and install new tape.

Condition 3: Improper Clearance and Damage Detected

(d) If improper clearance exists and any damage is detected during any inspection required by paragraph (a) of this AD, do the action(s) specified in paragraphs (d)(1), (d)(2), and (d)(3) of this AD, as applicable, per Boeing Alert Service Bulletin MD11-54A011, Revision 02, dated May 31, 2002.

(1) For Group 1 and Group 2 airplanes identified in the service bulletin: Before further flight, reposition cables; repair damage or replace damaged cables or fuel feed lines with new or serviceable cables or fuel feed lines; and repeat the inspection required by paragraph (a) of this AD every 6 months until the modification required by paragraph (d)(2) or (d)(3) of this AD, as applicable, has been done.

(2) For Group 1 airplanes identified in the service bulletin: Within 18 months after the effective date of this AD, install the brackets to support the IDG harness, and install new clamps on the power feeder cables of the IDG of engine pylons No. 1 and No. 3.

(3) For Group 2 airplanes identified in the service bulletin: Within 18 months after the effective date of this AD, replace the existing fairlead with a new clamp, and install new tape.

Credit for Earlier Service Bulletin

(e) Accomplishment of the actions specified in this AD before the effective date of this AD per Boeing Alert Service Bulletin MD11-54A011, Revision 01, dated August 22, 2002, is acceptable for compliance with the requirements of this AD.

Alternative Methods of Compliance

(f) In accordance with 14 CFR 39.19, the Manager, Los Angeles Aircraft Certification Office (ACO), FAA, is authorized to approve alternative methods of compliance for this AD.

Issued in Renton, Washington, on June 12, 2003.
Kalene C. Yanamura,
Acting Manager, Transport Airplane Directorate, Aircraft Certification Service.

[FR Doc. 03-15334 Filed 6-17-03; 8:45 am]

BILLING CODE 4910-13-U